DEPARTMENT OF DEFENSE

Department of the Navy

Notice of Availability of Government-Owned Inventions; Available for Licensing

AGENCY: Department of the Navy, DoD.

ACTION: Notice.

SUMMARY: The following inventions are assigned to the U.S. Government as represented by the Secretary of the Navy and are available for licensing by the Department of the Navy.

U.S. Patent No. 11/444,816: MICRO FABRICATED INERTIAL SHOCK BANDPASS FILTER.//U.S. Patent No. 11/040,300: MEMS MULTIDIRECTIONAL SHOCK SENSOR.//U.S. Patent No. 11/198,410: MEMS MULTIDIRECTIONAL SHOCK SENSOR WITH MULTIPLE MASSES.// U.S. Patent No. 11/009,847: MULTIPLE SHOCK SENSING DEVICE.// U.S. Patent No. 11/374,482: MEMS TIMER USING SEQUENTIAL UNLOCKING AND RE-LOCKING NESTED MASSES.//U.S. Patent No. 11/040,291: MICRO FABRICATED FALLING LEAF INERTIAL DELAY MECHANISM.//U.S. Patent No. 6,508,136: HIGH OUTPUT DIFFERENTIAL PRESSURE FLOW SENSOR.//U.S. Patent No. 11/447,519: LAUNCHED REMOTE SENSOR PROJECTILE.//U.S. Patent No. 6,995,707: IMPASS INTEGRATED MARITIME PORTABLE ACOUSTIC SCORING & SIMULATOR.//U.S. Patent No. 6,919,453: COLORANT COMPOSITIONS: DYES, DRUGS, DETECTION AGENTS.//U.S. Patent No. 11/417,294: FUNCTIONALIZATION OF CARBON NANOTUBES.//U.S. Patent No. 10/637,090: PERFLUOROALKYL PASSIVATED ALUMINUM.// U.S. Patent No. 11/076,456: METHOD FOR DEPOSITION OF STEEL PROTECTIVE COATING.//U.S. Patent No. 11/031,735: FLUSH RINSE PLATING PROCESS.//U.S. Patent No. 11/444,815: UNITARY LATCH/LIFT EYE.//U.S. Patent No. 7,063,810: CO-EXTRUSION OF ENERGETIC MATERIALS USING MULTIPLE TWIN SCREW EXTRUDERS.// U.S. Patent No. 11/076,456: METHOD FOR DEPOSITION OF STEEL PROTECTIVE COATING.//U.S. Patent No. 11/387,084: COMMON MODULAR INTERMODAL SHIPPING SYSTEM TECHNOLOGY.//U.S. Patent No. 11/010,701: INHIBITION OF METAL OXIDATION THROUGH THE VAPOR DEPOSITION OF A PASSIVATION LAYER.//U.S. Patent No. 11/444,812: ELECTROMAGNETIC PULSE (EMP) DEVICE FOR VEHICLE IMMOBILIZATION.//U.S. Patent No. 11/141,604: PRODUCTION OF INFRARED RADIATION AT ANY WAVELENGTH.//U.S. Patent No. 11/040,292: PRODUCING FIREBREAKS USING FIREBREAKS.//U.S. Patent No. 11/447,518: COMBINATION REAL-TIME BIOMETRIC CAMERA AND RADIO FREQUENCY IDENTIFICATION TAG AS A SYSTEM FOR REAL-TIME IDENTIFICATION AND VERIFICATION OF PERSONNEL IN AN AUTOMOBILE.//U.S. Patent No. 11/447,811: REACTIVE TARGET.

ADDRESSES: Requests for copies of the Patents or Patent Applications cited should be directed to the Naval Surface Warfare Center, Code CAB, 101 Strauss Avenue, Indian Head, MD 20640-5035.

FOR FURTHER INFORMATION CONTACT: Dr. J. Scott Deiter, Head, Technology Transfer Office, Naval Surface Warfare Center Indian Head Division, Code CAB, 101 Strauss Avenue, Indian Head, MD 20640-5035, telephone 301-744-6111.

Dated: June 27, 2006.
M. A. Harvison,
Lieutenant Commander, Judge Advocate General's Corps, U.S. Navy, Federal Register Liaison Officer.

[FR Doc. E6-10430 Filed 7-3-06; 8:45 am]

BILLING CODE 3810-FF-P